FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than July 9, 2001

A. Federal Reserve Bank of San Francisco (Maria Villanueva, Consumer Regulation Group) 101 Market Street, San Francisco, California 94105-1579:

1. Terrance Ray Sullivan, Elko, Nevada; Carol Ann Sullivan, Elko, Nevada; Patrick Sean Sullivan, Elko, Nevada; Terrance LeRoy Sullivan, Twin Falls, Idaho; Deborah Ann Hall, Twin Falls, Idaho; Darren Eugene Hall, Twin Falls, Idaho; Terrance Ryan Sullivan, Las Vegas, Nevada; Gary Phillip Sullivan, Staten Island, New York; Ralph William Farley, Laguna Woods, California; and Iris Gertrude Farley, Laguna Woods, California; all to acquire additional voting shares of Great Basin Financial Corporation, Elko, Nevada, and thereby indirectly acquire additional voting of Great Basin Bank of Nevada, Elko, Nevada.

Board of Governors of the Federal Reserve System, June 19, 2001.
Robert deV. Frierson
Associate Secretary of the Board.

[FR Doc. 01-15732 Filed 6-21-01; 8:45 am]

BILLING CODE 6210-01-S